DEPARTMENT OF THE INTERIOR

National Park Service

[NPS-WASO-NRNHL-DTS#-37968; PPWOCRADI0, PCU00RP14.R50000]

National Register of Historic Places; Notification of Pending Nominations and Related Actions

AGENCY: National Park Service, Interior.

ACTION: Notice.

SUMMARY: The National Park Service is soliciting electronic comments on the significance of properties nominated before May 11, 2024, for listing or related actions in the National Register of Historic Places.

DATES: Comments should be submitted electronically by June 4, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 11, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers,

Key: State, County, Property Name, Multiple Name(if applicable), Address/Boundary, City, Vicinity, Reference Number.

ARIZONA

Maricopa County

Grand Avenue Commercial Historic District, 723-1845 Grand Ave., 718-734 W. Polk St., 1205 W. Pierce St., 1348 W. Roosevelt St., 1107 N. Laurel St., Phoenix, SG100010434

CALIFORNIA

Los Angeles County

Westminster Place Historic District, parts of St. Andrews Place east side, from Wilshire Boulevard to 5th Street, Los Angeles, SG100010439

Sonoma County

Petaluma Woman's Club, 518 B Street, Petaluma, SG100010437

DISTRICT OF COLUMBIA

District of Columbia

On Leong Chinese Merchants Association, 618-620 H Street NW, Washington, SG100010440

MAINE

York County

Summer Street Block, 1-11 Summer Street, Biddeford, SG100010444

MISSISSIPPI

Attala County

Hull L.V. Home and Studio, 123 Allen Street, Kosciusko, SG100010441

OHIO

Franklin County

Green Lawn Cemetery, 1000 Greenlawn Ave., Columbus, SG100010446

OREGON

Multnomah County

Alderway Building, (Downtown Portland, Oregon MPS), 521-539 SW Broadway, Portland, MP100010438

VERMONT

Washington County

Northfield Graded School, (Educational Resources of Vermont MPS), 168 North Main Street, Northfield, MP100010436

WISCONSIN

Iowa County

Grandview, 7351 State Road 39, Town of Moscow, SG100010435

Langlade County

Modern Woodmen of America Lodge, W10555 County Highway K, Town of Elcho, SG100010443

A request for removal has been made for the following resource(s):

MAINE

Washington County

Columbia Union Church, N side of ME 29-608, .05 mi. E of jct. with ME 29-610, Epping vicinity, OT97000607

Authority: Section 60.13 of 36 CFR part 60.

Sherry A. Frear,
Chief, National Register of Historic Places/National Historic Landmarks Program.

[FR Doc. 2024-10921 Filed 5-17-24; 8:45 am]

BILLING CODE 4312-52-P